DEPARTMENT OF THE INTERIOR

Fish and Wildlife Service

[FWS-R1-ES-2012-N293; FXES11130100000C4-123-FF01E00000]

Endangered and Threatened Wildlife and Plants; Initiation of 5-Year Status Reviews of 44 Species in Oregon, Hawaii, Guam, and the Northern Mariana Islands

AGENCY: Fish and Wildlife Service, Interior.

ACTION: Notice of initiation of reviews; request for information.

SUMMARY: We, the U.S. Fish and Wildlife Service (Service), are initiating 5-year status reviews for 44 species in Oregon, Hawaii, Guam, and the Northern Mariana Islands, under the Endangered Species Act of 1973, as amended (Act). A 5-year status review is based on the best scientific and commercial data available at the time of the review; therefore, we are requesting submission of any new information on these species that has become available since the last review for that particular species.

DATES: To ensure consideration in our reviews, we are requesting submission of new information no later than April 8, 2013. However, we will continue to accept new information about any listed species at any time.

ADDRESSES: For the 42 species in Hawaii, Guam, and the Northern Mariana Islands (see Table 1 below), submit information to: Field Supervisor, Attention: 5-Year Review, U.S. Fish and Wildlife Service, Pacific Islands Fish and Wildlife Office, 300 Ala Moana Blvd., Room 3-122, Box 50088, Honolulu, Hawaii 96850.

For the Oregon chub and Hutton tui chub, submit information to: Field Supervisor, Attention: 5-Year Review, U.S. Fish and Wildlife Service, Oregon Fish and Wildlife Office, 2600 SE 98th Avenue, Suite 100, Portland, Oregon 97266. Information on Oregon species can also be submitted by email to: fw1or5yearreview@fws.gov.

FOR FURTHER INFORMATION CONTACT: Kristi Young, U.S. Fish and Wildlife Service, Pacific Islands Fish and Wildlife Office (see ADDRESSES), 808-792-9400 (for species in Hawaii, Guam, and the Northern Mariana Islands); or Jeff Dillon, U.S. Fish and Wildlife Service, Oregon Fish and Wildlife Office, 503-231-6179 (for Oregon chub and Hutton tui chub). Individuals who are hearing impaired or speech impaired may call the Federal Relay Service at (800) 877-8339 for TTY assistance.

SUPPLEMENTARY INFORMATION:

Why do we conduct 5-year reviews?

Under the Act (16 U.S.C. 1531 et seq.), we maintain Lists of Endangered and Threatened Wildlife and Plants (which we collectively refer to as the List) in the Code of Federal Regulations (CFR) at 50 CFR 17.11 (for animals) and 17.12 (for plants). Section 4(c)(2)(A) of the Act requires us to review each listed species' status at least once every 5 years. Our regulations at 50 CFR 424.21 require that we publish a notice in the Federal Register announcing those species under active review.

What information do we consider in the review?

A 5-year review considers all new information available at the time of the review. In conducting these reviews, we consider the best scientific and commercial data that has become available since the listing determination or most recent status review, such as:

(A) Species biology, including but not limited to population trends, distribution, abundance, demographics, and genetics;

(B) Habitat conditions, including, but not limited to amount, distribution, and suitability;

(C) Conservation measures that have been implemented that benefit the species;

(D) Threat status and trends in relation ot the five listing factors (as defined in section 4(a)(1) of the Act); and

(E) Other new information, data, or corrections including, but not limited to, taxonomic or nomenclatural changes, identification of erroneous information contained in the List, and improved analytical methods.

Any new information will be considered during the 5-year review and will also be useful in evaluating the ongoing recovery programs for the species.

What species are under review?

This notice announces our active review of the 44 species listed in the table below.

Species for Which We Are Initiating a 5-Year Status Review
Common name | Scientific name | Status | Where listed | Final listing rule
ANIMALS
Warbler, nightingale reed | Acrocephalus luscinia | Endangered | Western Pacific Ocean—U.S.A (Guam, Alamagan, Saipan) | 35 FR 8491; 06/02/1970.
Swiftlet, Mariana gray (=Guam swiftlet) | Aerodramus vanikorensis bartschi | Endangered | Western Pacific Ocean—U.S.A (Guam, Rota, Tinian, Saipan, Agiguan) | 49 FR 33881; 08/27/1984.
Duck, Hawaiian | Anas wyvilliana | Endangered | U.S.A (HI) | 32 FR 4001; 03/11/1967.
Chub, Oregon | Oregonichthys crameri | Threatened | U.S.A (OR) | 58 FR 53804; 10/18/1993.
Chub, Hutton tui | Gila bicolor ssp. | Threatened | U.S.A (OR) | 50 FR 12305; 03/28/1985.
Crow, Hawaiian | Corvus hawaiiensis | Endangered | U.S.A (HI) | 32 FR 4001; 03/11/1967.
Coot, Hawaiian | Fulica alai | Endangered | U.S.A (HI) | 35 FR 16047; 10/13/1970.
Moorhen (=Gallinule), Mariana common | Gallinula chloropus guami | Endangered | Western Pacific Ocean—U.S.A (Guam, Tinian, Saipan, Pagan) | 49 FR 33881; 08/27/1984.
Moorhen (=Gallinule), Hawaiian common | Gallinula chloropus sandvicensis | Endangered | U.S.A (HI) | 32 FR 4001; 03/11/1967.
`Akiapola`au | Hemignathus munroi | Endangered | U.S.A (HI) | 32 FR 4001; 03/11/1967.
Palila | Loxioides bailleui | Endangered | U.S.A (HI) | 32 FR 4001; 03/11/1967.
`Akepa, Hawaii | Loxops coccineus coccineus | Endangered | U.S.A (HI) | 35 FR 16047; 10/13/1970.
Creeper, Hawaii | Oreomystis mana | Endangered | U.S.A (HI) | 40 FR 44151; 09/25/1975.
`O`u | Psittirostra psittacea | Endangered | U.S.A (HI) | 32 FR 4001; 03/11/1967.
Bat, little Mariana fruit | Pteropus tokudae | Endangered | Western Pacific Ocean—U.S.A (Guam) | 49 FR 33881; 08/27/1984.
White-eye, Rota bridled | Zosterops rotensis | Endangered | Western Pacific Ocean—U.S.A (Commonwealth of the Northern Mariana Islands) | 69 FR 3022; 01/22/2004.
PLANTS
No common name | Achyranthes mutica | Endangered | U.S.A (HI) | 61 FR 53108; 10/10/1996.
Pendant kihi fern | Adenophorus periens | Endangered | U.S.A (HI) | 59 FR 56333; 11/10/1994.
Mauna Loa silversword | Argyroxiphium kauense | Endangered | U.S.A (HI) | 58 FR 18035; 04/07/1993.
Uhiuhi | Caesalpinia kavaiensis | Endangered | U.S.A (HI) | 51 FR 24675; 07/08/1986.
`Oha wai | Clermontia lindseyana | Endangered | U.S.A (HI) | 59 FR 10305; 03/04/1994.
`Oha wai | Clermontia peleana | Endangered | U.S.A (HI) | 59 FR 10305; 03/04/1994.
Kauila | Colubrina oppositifolia | Endangered | U.S.A (HI) | 59 FR 10305; 03/04/1994.
Haha | Cyanea hamatiflora ssp. carlsonii | Endangered | U.S.A (HI) | 59 FR 10305; 03/04/1994.
Haha | Cyanea shipmanii | Endangered | U.S.A (HI) | 59 FR 10305; 03/04/1994.
Asplenium-leaved diellia | Diellia erecta | Endangered | U.S.A (HI) | 59 FR 56350; 11/10/1994.
Hau kuahiwi | Hibiscadelphus giffardianus | Endangered | U.S.A (HI) | 61 FR 53152; 10/10/1996.
Hau kuahiwi | Hibiscadelphus hualalaiensis | Endangered | U.S.A (HI) | 61 FR 53152; 10/10/1996.
Hilo ischaemum | Ischaemum byrone | Endangered | U.S.A (HI) | 59 FR 10305; 03/04/1994.
Wahine noho kula | Isodendrion pyrifolium | Endangered | U.S.A (HI) | 59 FR 10305; 03/04/1994.
Kio`ele | Kadua coriacea (=Hedyotis coriacea) | Endangered | U.S.A (HI) | 57 FR 20787; 05/15/1992.
Koki`o | Kokia drynarioides | Endangered | U.S.A (HI) | 49 FR 47400; 12/04/1984.
Alani | Melicope zahlbruckneri | Endangered | U.S.A (HI) | 61 FR 53152; 10/10/1996.
No common name | Neraudia ovata | Endangered | U.S.A (HI) | 61 FR 53152; 10/10/1996.
No common name | Phyllostegia parviflora | Endangered | U.S.A (HI) | 61 FR 53123; 10/10/1996.
Loulu | Pritchardia schattaueri | Endangered | U.S.A (HI) | 61 FR 53152; 10/10/1996.
`Ohai | Sesbania tomentosa | Endangered | U.S.A (HI) | 59 FR 56350; 11/10/1994.
No common name | Silene hawaiiensis | Threatened | U.S.A (HI) | 59 FR 10305; 03/04/1994.
No common name | Silene lanceolata | Endangered | U.S.A (HI) | 57 FR 46339; 10/08/1992.
Popolo ku mai | Solanum incompletum | Endangered | U.S.A (HI) | 59 FR 56350; 11/10/1994.
No common name | Spermolepis hawaiiensis | Endangered | U.S.A (HI) | 59 FR 56350; 11/10/1994.
No common name | Vigna o-wahuensis | Endangered | U.S.A (HI) | 59 FR 56350; 11/10/1994.
A`e | Zanthoxylum dipetalum var. tomentosum | Endangered | U.S.A (HI) | 61 FR 53152; 10/10/1996.
A`e | Zanthoxylum hawaiiense | Endangered | U.S.A (HI) | 59 FR 10305; 03/04/1994

Request for New Information

To ensure that a 5-year review is complete and based on the best available scientific and commercial information, we request new information from all sources. See “What Information Do We Consider in Our Review?” for specific criteria. If you submit information, please support it with documentation such as maps, bibliographic references, methods used to gather and analyze the data, and/or copies of any pertinent publications, reports, or letters by knowledgeable sources.

If you wish to provide information for any species listed above, please submit your comments and materials to the appropriate contact in either the Oregon or Pacific Islands Fish and Wildlife Office (see ADDRESSES section).

Public Availability of Comments

Before including your address, phone number, email address, or other personal identifying information in your comment, you should be aware that your entire comment—including your personal identifying information—may be made publicly available at any time. While you can ask us in your comment to withhold your personal identifying information from public review, we cannot guarantee that we will be able to do so.

Comments and materials received will be available for public inspection, by appointment, during normal business hours at the offices where the comments are submitted.

Completed and Active Reviews

A list of all completed and currently active 5-year reviews addressing species for which the Pacific Region of the Service has lead responsibility is available at: http://www.fws.gov/pacific/ecoservices/endangered/recovery/5year.html.

Authority

This document is published under the authority of the Endangered Species Act of 1973, as amended (16 U.S.C. 1531 et seq.).

Dated: December 31, 2012.
Chris McKay,
Acting Regional Director, Region 1, U.S. Fish and Wildlife Service.

[FR Doc. 2013-02453 Filed 2-4-13; 8:45 am]

BILLING CODE 4310-55-P